DEPARTMENT OF TRANSPORTATION

Federal Aviation Administration

14 CFR Part 29

Airworthiness Standards: Transport Category Rotorcraft; Equipment: Flight and Navigation Instruments; Correction

AGENCY: Federal Aviation administration (FAA), DOT.

ACTION: Correcting amendment.

SUMMARY: This document corrects an error that appears in the Code of Federal Regulations (CFR), title 14, as of January 1, 2004. The regulation relates to attitude-indicating instruments that are required to be installed on transport category rotorcraft.

DATES: Effective on January 12, 2005.

FOR FURTHER INFORMATION CONTACT: Terry Pearsall, phone (202) 267-3042.

SUPPLEMENTARY INFORMATION:

Need for Correction

As published in the CFR, these regulations contain errors in which the word “altitude” was incorrectly substituted for the word “attitude”. Accordingly, § 29.1303(g) of 14 CFR part 29 is corrected by making the following correcting amendments:

List of Subjects in 14 CFR Part 29, Subpart F

Equipment.

Accordingly, 14 CFR part 29 is corrected by making the following correcting amendments:

PART 29—AIRWORTHINESS STANDARDS: TRANSPORT CATEGORY ROTORCRAFT

1. The authority citation for part 29 continues to read as follows:

Authority: 49 U.S.C. 106(g), 40113, 44701-44702, 44704.

2. Revise paragraphs (g) introductory text, (g)(1) and (g)(4) of § 29.1303 to read as follows:

§ 29.1303 Flight and navigation instruments.

* * * * *

(g) A gyroscopic rate-of-turn indicator combined with an integral slip-skid indicator (turn-and-bank indicator) except that only a slip-skid indicator is required on rotorcraft with a third attitude instrument system that—

(1) Is usable through flight attitudes of ± 80 degrees of pitch and ± 120 degrees of roll;

(2) * * *

(3) * * *

(4) Operates independently of any other attitude indicating system;

* * * * *

Anthony F. Fazio,
Director, Office of Rulemaking.

[FR Doc. 05-553 Filed 1-11-05; 8:45 am]

BILLING CODE 4910-13-P